DEPARTMENT OF THE TREASURY

Office of Foreign Assets Control

Additional Identifying Information Associated With Persons Whose Property and Interests in Property Are Blocked Pursuant to the Foreign Narcotics Kingpin Designation Act

AGENCY: Office of Foreign Assets Control, Treasury.

ACTION: Notice.

SUMMARY: The U.S. Department of the Treasury's Office of Foreign Assets Control (“OFAC”) is publishing additional indentifying information associated with the three individuals identified by the President of the United States on June 1, 2012, whose property and interests in property have been blocked pursuant to the Foreign Narcotics Kingpin Designation Act (“Kingpin Act”) (21 U.S.C. 1901-1908, 8 U.S.C. 1182).

DATES: The President of the United States identified the three individuals in this notice pursuant to section 21 U.S.C. 1903(b)(1) of the Kingpin Act on June 1, 2012.

FOR FURTHER INFORMATION CONTACT: Assistant Director, Sanctions Compliance & Evaluation, Office of Foreign Assets Control, U.S. Department of the Treasury, Washington, DC 20220, Tel: (202) 622-2490.

SUPPLEMENTARY INFORMATION:

Electronic and Facsimile Availability

This document and additional information concerning OFAC are available on OFAC's Web site at http://www.treasury.gov/ofac or via facsimile through a 24-hour fax-on-demand service at (202) 622-0077.

Background

The Kingpin Act became law on December 3, 1999. The Kingpin Act establishes a program targeting the activities of significant foreign narcotics traffickers and their organizations on a worldwide basis. It provides a statutory framework for the imposition of sanctions against significant foreign narcotics traffickers and their organizations on a worldwide basis, with the objective of denying their businesses and agents access to the U.S. financial system and the benefits of trade and transactions involving U.S. companies and individuals.

The Kingpin Act blocks all property and interests in property, subject to U.S. jurisdiction, owned or controlled by significant foreign narcotics traffickers as identified by the President. In addition, the Secretary of the Treasury, in consultation with the Attorney General, the Director of the Central Intelligence Agency, the Director of the Federal Bureau of Investigation, the Administrator of the Drug Enforcement Administration, the Secretary of Defense, the Secretary of State, and the Secretary of Homeland Security may designate and block the property and interests in property, subject to U.S. jurisdiction, of persons who are found to be: (1) Materially assisting in, or providing financial or technological support for or to, or providing goods or services in support of, the international narcotics trafficking activities of a person designated pursuant to the Kingpin Act; (2) owned, controlled, or directed by, or acting for or on behalf of, a person designated pursuant to the Kingpin Act; or (3) playing a significant role in international narcotics trafficking.

OFAC is publishing additional indentifying information associated with the following three individuals the President of the United States identified on June 1, 2012, whose property and interests in property are blocked pursuant to section 21 U.S.C. 1903(b)(1) of the Kingpin Act:

1. KELMENDI, Naser (a.k.a. KELJMENDI, Naser Meto), Edhema Eke Dzubura 20, Ilidza, Bosnia and Herzegovina; DOB 15 Feb 1957; POB Pec, Kosovo; National ID No. 1502957172694 (Bosnia and Herzegovina) (individual) [SDNTK]

2. SOTO GASTELUM, Jose Antonio, DOB 24 Mar 1967; POB Sinaloa, Mexico; citizen Mexico; nationality Mexico; Passport TJT000291379 (Mexico) (individual) [SDNTK]

3. WAZIR SHAH, Sayid; DOB 10 Nov 1964; POB Herat, Afghanistan; citizen Afghanistan; alt. citizen Germany (individual) [SDNTK]

Dated: June 27, 2012.
Adam J. Szubin,
Director, Office of Foreign Assets Control.

[FR Doc. 2012-16272 Filed 7-2-12; 8:45 am]

BILLING CODE 4810-AL-P